DEPARTMENT OF TRANSPORTATION

Federal Aviation Administration

14 CFR Part 39

[Docket No. 2000-NM-112-AD]

RIN 2120-AA64

Airworthiness Directives; Dornier Model 328-100 Series Airplanes

AGENCY: Federal Aviation Administration, DOT.

ACTION: Notice of proposed rulemaking (NPRM).

SUMMARY: This document proposes the supersedure of an existing airworthiness directive (AD), applicable to all Dornier Model 328-100 series airplanes, that currently requires revising the Airplane Flight Manual (AFM) to provide the flightcrew with additional information regarding procedures to ensure complete pressurization of the hydraulic lines for the flaps. This action would require revising the existing AFM revision to include a flap system test to be performed prior to the first flight of the day. This action also would add a requirement, for certain airplanes, for modification of the flap actuators of the flight controls. This proposal is prompted by issuance of mandatory continuing airworthiness information by a foreign civil airworthiness authority. The actions specified by the proposed AD are intended to prevent an uncommanded retraction of the flaps during takeoff, which could result in an aborted takeoff and consequent potential for runway overrun.

DATES: Comments must be received by September 28, 2000.

ADDRESSES: Submit comments in triplicate to the Federal Aviation Administration (FAA), Transport Airplane Directorate, ANM-114, Attention: Rules Docket No. 2000-NM-112-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-112-AD” in the subject line and need not be submitted in triplicate. Comments sent via the Internet as attached electronic files must be formatted in Microsoft Word 97 for Windows or ASCII text.

The service information referenced in the proposed rule may be obtained from Fairchild Dornier, Dornier Luftfahrt GmbH, P.O. Box 1103, D-82230 Wessling, Germany. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-112-AD.” The postcard will be date stamped and returned to the commenter.

Availability of NPRMs

Any person may obtain a copy of this NPRM by submitting a request to the FAA, Transport Airplane Directorate, ANM-114, Attention: Rules Docket No. 2000-NM-112-AD, 1601 Lind Avenue, SW., Renton, Washington 98055-4056.

Discussion

On October 19, 1998, the FAA issued AD 98-22-07, amendment 39-10854 (63 FR 57244, October 27, 1998), applicable to all Dornier Model 328-100 series airplanes, to require revising the Airplane Flight Manual (AFM) to provide the flightcrew with additional information regarding procedures to ensure complete pressurization of the hydraulic lines for the flaps. That action was prompted by issuance of mandatory continuing airworthiness information by a foreign civil airworthiness authority. The requirements of that AD are intended to prevent an uncommanded retraction of the flaps during takeoff, which could result in an aborted takeoff and consequent potential for runway overrun.

Actions Since Issuance of Previous Rule

In the preamble to AD 98-22-07, the FAA specified that the actions required by that AD were considered to be “interim action” and that the FAA may consider further rulemaking action. The manufacturer now has developed a hardware modification to install a locking collar and locking sleeve at the actuator cylinder. The Luftfahrt-Bundesamt (LBA), which is the airworthiness authority for Germany, advises that the modification is intended to prevent uncommanded retraction of the flaps. The FAA has determined that further rulemaking is necessary, to require the modification on affected airplanes; this proposed AD follows from that determination.

Explanation of Relevant Service Information

The manufacturer has issued Dornier 328 All Operators Telefax (AOT) AOT-328-27-016, Revision 1, dated October 28, 1998. The AOT describes procedures for revising the Normal and Abnormal Procedures Sections of the AFM to provide the flightcrew with additional information for resetting the flap system to ensure complete pressurization of the hydraulic lines for the flaps. This revision also includes a flap system test to be performed prior to the first flight of the day.

The manufacturer also has issued Dornier 328 Service Bulletin SB-328-27-293, dated November 10, 1999, which describes procedures for modification of the flap actuators of the flight controls. The modification involves installation of a locking collar and a locking sleeve at the actuator cylinder. The LBA classified the AOT and service bulletin as mandatory and issued German airworthiness directive 1998-359/3, dated April 6, 2000, in order to assure the continued airworthiness of these airplanes in Germany.

The Dornier service bulletin references Liebherr Aerospace Service Bulletin 1048A-27-02, dated November 9, 1999, as an additional source of service information for accomplishing the modification of the flap actuators of the flight controls.

FAA's Conclusions

This airplane model is manufactured in Germany and is type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Explanation of Requirements of Proposed Rule

Since an unsafe condition has been identified that is likely to exist or develop on other airplanes of the same type design registered in the United States, the proposed AD would supersede the requirements of AD 98-22-07. This proposed AD would require revising the previously required AFM revision to include a flap system test to be performed prior to the first flight of the day. The proposed AD also would add a requirement, for certain airplanes, for modification of the flap actuators of the flight controls. The actions would be required to be accomplished in accordance with the service information described previously.

Cost Impact

There are approximately 52 series airplanes of U.S. registry that would be affected by this proposed AD.

The AFM revision that is currently required by AD 98-22-07, and retained in this AD, takes approximately 1 work hour per airplane to accomplish, at an average labor rate of $60 per work hour. Based on these figures, the cost impact of the currently required actions on U.S. operators is estimated to be $3,120, or $60 per airplane.

The new AFM revision that is proposed in this AD action would take approximately 1 work hour per airplane to accomplish, at an average labor rate of $60 per work hour. Based on these figures, the cost impact of the proposed AFM revision on U.S. operators is estimated to be $3,120, or $60 per airplane.

The new modification that is proposed in this AD action would take approximately 4 work hours per airplane to accomplish, at an average labor rate of $60 per work hour. Required parts would be provided by the manufacturer at no cost to the operators. Based on these figures, the cost impact of the proposed modification on U.S. operators is estimated to be $240 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10854 (63 FR 57244, October 27, 1998), and by adding a new airworthiness directive (AD), to read as follows:

Dornier Luftfahrt GMBH: Docket 2000-NM-112-AD. Supersedes AD 98-22-07, Amendment 39-10854.

Applicability: All Model 328-100 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d)(1) of this AD. The request should include an assessment of the effect of the modification, alteration, or repair on the unsafe condition addressed by this AD; and, if the unsafe condition has not been eliminated, the request should include specific proposed actions to address it.

Compliance: Required as indicated, unless accomplished previously.

To prevent an uncommanded retraction of the flaps during takeoff, which could result in an aborted takeoff and consequent potential for runway overrun, accomplish the following:

Restatement of Requirements of AD 98-22-07

Airplane Flight Manual (AFM) Revision

(a) Within 14 days after November 12, 1998 (the effective date of AD 98-22-07, amendment 39-10854), accomplish the requirements of paragraphs (a)(1) and (a)(2) of this AD.

(1) Revise the Normal Procedures Section of the Dornier 328 FAA-approved Airplane Flight Manual (AFM) to include the information specified in pages 6 and 7 of Dornier 328 All Operators Telefax (AOT) AOT-328-27-016, dated July 31, 1998. This may be accomplished by inserting a copy of pages 6 and 7 of the AOT into the AFM.

(2) Revise the Abnormal Procedures Section of the Dornier 328 FAA-approved AFM to include the information specified in page 4 of Dornier 328 AOT-328-27-016, dated July 31, 1998. This may be accomplished by inserting a copy of page 4 of the AOT into the AFM.

New Requirements of This AD

New AFM Revision

(b) For all airplanes: Within 3 days after the effective date of this AD, revise the Dornier 328 FAA-approved AFM as specified in paragraphs (b)(1) and (b)(2) of this AD. Concurrent with this AFM revision, remove the AFM revisions required by paragraph (a) of this AD from the AFM.

(1) Revise the Normal Procedures Section to include the information specified in pages 4, 5, and 6 of Dornier 328 All Operators Telefax (AOT) AOT-328-27-016, Revision 1, dated October 28, 1998. This may be accomplished by inserting a copy of pages 4, 5, and 6 of the AOT into the AFM.

(2) Revise the Abnormal Procedures Section to include the information specified in page 3 of Dornier 328 AOT-328-27-016, Revision 1, dated October 28, 1998. This may be accomplished by inserting a copy of page 3 of the AOT into the AFM.

Modification

(c) For airplanes with serial numbers 3005 through 3099 inclusive, 3101 through 3108 inclusive, and 3110 through 3119 inclusive: Within 5 months after the effective date of this AD, modify the flap actuators of the flight controls, in accordance with Dornier 328 Service Bulletin SB-328-27-293, dated November 10, 1999.

Note 2: The Dornier service bulletin references Liebherr Aerospace Service Bulletin 1048A-27-02, dated November 9, 1999, as an additional source of service information for accomplishing the modification of the flap actuators of the flight controls.

Alternative Methods of Compliance

(d)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 98-22-07, amendment 39-10854, are approved as alternative methods of compliance with paragraph (a) of this AD.

Note 3: Information concerning the existence of approved alternative methods of compliance with this AD, if any, may be obtained from the Manager, International Branch, ANM-116.

Special Flight Permits

(e) Special flight permits may be issued in accordance with sections 21.197 and 21.199 of the Federal Aviation Regulations (14 CFR 21.197 and 21.199) to operate the airplane to a location where the requirements of this AD can be accomplished.

Note 4: The subject of this AD is addressed in German airworthiness directive 1998-359/3, dated April 6, 2000.

Issued in Renton, Washington, on August 23, 2000.
Donald L. Riggin,
Acting Manager, Transport Airplane Directorate, Aircraft Certification Service.

[FR Doc. 00-21993 Filed 8-28-00; 8:45 am]

BILLING CODE 4910-13-P